DEPARTMENT OF DEFENSE

GENERAL SERVICES ADMINISTRATION

NATIONAL AERONAUTICS AND SPACE ADMINISTRATION

48 CFR Chapter 1

Federal Acquisition Circular 2001-25; Introduction

AGENCIES: Department of Defense (DoD), General Services Administration (GSA), and National Aeronautics and Space Administration (NASA).

ACTION: Summary presentation of final and interim rules, and technical amendments and corrections.

SUMMARY: This document summarizes the Federal Acquisition regulation (FAR) rules agreed to by the Civilian Agency Acquisition Council and the Defense Acquisition Regulations Council in this Federal Acquisition Circular (FAC) 2001-25. A companion document, the Small Entity Compliance Guide (SECG), follows this FAC. The FAC, including the SECG, is available via the Internet at http://www.acqnet.gov/far.

DATES: For effective dates and comment dates, see separate documents which follow.

FOR FURTHER INFORMATION CONTACT: The FAR Secretariat, at (202) 501-4755, for information pertaining to status or publication schedules. For clarification of content, contact the analyst whose name appears in the table below in relation to each FAR case or subject area. Please cite FAC 2001-25 and specific FAR case number(s). Interested parties may also visit our Web site at http://www.acqnet.gov/far.

Item | Subject | FAR case | Analyst
I | Elimination of the Standard Form 1417 | 2002-017 | Davis.
II | Free Trade Agreements—Chile and Singapore, and Trade Agreements Thresholds | 2003-016 | Davis.
III | Telecommuting for Federal Contractors (Interim) | 2003-035 | Zaffos.
IV | Section 508 Micropurchase Exemption (Interim) | 2004-020 | Nelson.
V | Technical Amendments

SUPPLEMENTARY INFORMATION: Summaries for each FAR rule follow. For the actual revisions and/or amendments to these FAR cases, refer to the specific item number and subject set forth in the documents following these item summaries.

FAC 2001-25 amends the FAR as specified below:

Item I—Elimination of the Standard Form 1417 (FAR Case 2002-017)

This final rule eliminates the use of the Standard Form 1417, Pre-Solicitation Notice (Construction Contract), in contracts for construction, alteration or repair, dismantling, demolition, or removal of improvements. The use of this form has become unnecessary because contracting officers provide access to presolicitation notices through the Governmentwide point of entry (GPE) via the Internet at http://www.fedbizopps.gov pursuant to FAR 5.204. Elimination of the form increases reliance on electronic business practices and reduces the estimated information collection requirement burden hours imposed on offerors.

Item II—Free Trade Agreements—Chile and Singapore, and Trade Agreements Thresholds (FAR Case 2003-016)

The interim rule to implement new Free Trade Agreements with Chile and Singapore, published in the Federal Register at 69 FR 1050, January 7, 2004, is converted to a final rule with changes. The interim rule included in each Trade Agreements clause the statement that United States law will apply to resolve any claim of breach of contract. At the request of the Department of Justice, the final rule relocates this statement into a separate clause to be included in all contracts. All contracting officers must be aware of this new requirement.

Item III—Telecommuting for Federal Contractors (FAR Case 2003-025) (Interim)

This interim rule addresses telecommuting by employees of Federal contractors. This rule implements Section 1428 of the Services Acquisition Reform Act of 2003 (Title XIV of Public Law 108-136), which prohibits agencies from including a requirement in a solicitation that precludes an offeror from permitting its employees to telecommute or, when telecommuting is not precluded, from unfavorably evaluating an offeror's proposal that includes telecommuting unless it would adversely affect agency requirements, such as security. Contracting officers awarding service contracts should familiarize themselves with this rule.

Item IV—Section 508 Micropurchase Exemption (FAR Case 2004-020) (Interim)

This interim rule extends from October 1, 2004, to April 1, 2005, the micropurchase exception from the requirement to purchase electronic and information technology that provides individuals with disabilities better access to and use of information and data, as required by Section 508 of the Rehabilitation Act of 1973. The extension will provide agencies time to update their purchase card training modules on the 508 requirements and train their personnel. This rule is of special interest to contracting officers who purchase electronic and information technology.

Item V—Technical Amendments

Editorial changes are made at FAR 14.403(c), 52.212-5(b)(34)(ii), 52.215-15(b)(2), 52.217-5, and 52.219-4(d)(3) to update various references.

Dated: September 28, 2004.
Ralph J. De Stefano,
Acting Director, Contract Policy Division.

Federal Acquisition Circular

Federal Acquisition Circular (FAC) 2001-25 is issued under the authority of the Secretary of Defense, the Administrator of General Services, and the Administrator for the National Aeronautics and Space Administration.

Unless otherwise specified, all Federal Acquisition Regulation (FAR) and other directive material contained in FAC 2001-25 is effective October 5, 2004, except for Item I, which is effective November 4, 2004.

Dated: September 22, 2004.
Vincent J. Feck,
Lt Col USAF, Acting Director, Defense Procurement and Acquisition Policy.

Dated: September 8, 2004.
David A. Drabkin,
Senior Procurement Executive, Office of the Chief Acquisition Officer, General Services Administration.

Dated: September 7, 2004.
Tom Luedtke,
Deputy Chief Acquisition Officer, National Aeronautics and Space Administration.

[FR Doc. 04-22243 Filed 10-4-04; 8:45 am]

BILLING CODE 6820-EP-M